DEPARTMENT OF ENERGY

[OE Docket No. PP-362]

Notice of Availability for the Draft Environmental Impact Statement and Announcement of Public Hearings for the Proposed Champlain Hudson Power Express Transmission Line Project; Correction

AGENCY: U.S. Department of Energy.

ACTION: Notice of availability and public hearings; correction.

SUMMARY: The Department of Energy (DOE) published a document in the Federal Register of November 1, 2013, announcing the availability for the Draft Environmental Impact Statement and public hearings for the proposed Champlain Hudson Power Express transmission line project. This document corrects an error in that notice.

FOR FURTHER INFORMATION CONTACT: Requests for additional information should be directed to Brian Mills at Brian.Mills@hq.doe.gov.

Correction

In the Federal Register of November 1, 2013 in FR Doc. 2013-26080, 78 FR 65622, please make the following correction:

On page 65622, third column, under the heading DATES, the second sentence is corrected to read: “The public comment period started on November 1, 2013, with the publication in the Federal Register by the U.S. Environmental Protection Agency of its Notice of Availability of the Draft EIS, and will continue until December 16, 2013.”

Issued in Washington, DC, on November 1, 2013.
Brian Mills,
NEPA Compliance Officer, Office of Electricity Delivery and Energy Reliability.

[FR Doc. 2013-26573 Filed 11-5-13; 8:45 am]

BILLING CODE 6450-01-P